DEPARTMENT OF AGRICULTURE

Office of the Secretary

Forest Resource Coordinating Committee

AGENCY: Forest Service, USDA.

ACTION: Call for nominations.

SUMMARY: The Department of Agriculture is seeking nominations for the Forest Resource Coordinating Committee (Committee) pursuant to Section 8005 of the Food, Conservation, and Energy Act of 2008 (Act) (Pub. L. 110-246), and the Federal Advisory Committee Act (FACA), (5 U.S.C. App. 2). Additional information on the Committee can be found by visiting the Committee's Web site at: http://www.fs.fed.us/spf/coop/frcc/.

DATES: Written nominations must be received by May 15, 2014. Nominations must contain a completed application packet that includes the nominee's name, resume, cover letter, and completed Form AD-755 (Advisory Committee or Research and Promotion Background Information). The package must be sent to the address below.

ADDRESSES: Laurie Schoonhoven, USDA Forest Service, Office of Cooperative Forestry, Sidney R. Yates Federal Building, 201 14th Street SW., mailstop 1123, Washington, DC 20024 by express mail delivery or overnight courier service. Nominations sent via the U.S. Postal Service must be sent to the following address: USDA Forest Service; Office of Cooperative Forestry, State & Private Forestry; mailstop 1123; 1400 Independence Avenue SW,, Washington, DC 20250-1123.

FOR FURTHER INFORMATION CONTACT: Laurie Schoonhoven, Forest Resource Coordinating Committee Program Coordinator, Telephone: (202) 205-0929 or Karl Dalla Rosa, Designated Federal Officer (DFO), Telephone: (202) 205-6206. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of FACA, the Secretary of Agriculture is seeking nominations to fill seven vacancies that will occur when current appointments expire in December 2014. The purpose of the Committee is to continue providing direction and coordination of actions within the Department of Agriculture, and coordination with State agencies and the private sector, to effectively address the national priorities for private forest conservation, with specific focus on owners of non-industrial private forest land as described in Section 8005 of the Food, Conservation, and Energy Act of 2008 (Pub. L. 110-246). These priorities include:

1. Conserving and managing working forest landscapes for multiple values and uses,

2. Protecting forests from threats, including catastrophic wildfires, hurricanes, tornadoes, windstorms, snow or ice storms, flooding, drought, invasive species, insect or disease outbreak, or development, and restoring appropriate forest types in response to such threats, and

3. Enhancing public benefits from private forests, including air and water quality, soil conservation, biological diversity, carbon storage, forest products, forestry-related jobs, production of renewable energy, wildlife, wildlife corridors and wildlife habitat, and recreation.

Vacancy

Members appointed to the Committee will be fairly balanced in terms of the points of view represented, functions to be performed, and will represent a broad array of expertise, leadership and relevancy to a membership category. Geographic balance and a balanced distribution among the categories are also important. Representatives from the following categories will be appointed by the Secretary with staggered terms up to 3 years: (2) State Foresters or equivalent State officials from geographically diverse regions of the United States.; (1) Non-industrial Private Forest Landowner; (1) Land-Grant University or College; (1) Private Forestry Consultant; (1) State Technical Committee; and (1) Conservation Organization. Vacancies will be filled in the manner in which the original appointment was made.

Nomination and Application Instructions

The State Foresters, Non-industrial Private Forest Landowner, Land-Grant University or College, Private Forestry Consultant, State Technical Committee, or Conservation Organization positions must be associated with such organizations and be willing to represent that sector as it relates to non-industrial private forestry. The public is invited to submit nominations for membership on the Forest Resource Coordinating Committee, either as a self-nomination or a nomination of any qualified and interested person. The appointment of members to the Committee is made by the Secretary of Agriculture. Any individual or organization may nominate one or more qualified persons to represent the above vacancy on the Forest Resource Coordinating Committee. To be considered for membership, nominees must provide the following:

1. Resume describing your qualifications to represent the vacancy;

2. Cover letter with a rationale for serving on the committee and what you can contribute;

3. Complete Form AD-755, Advisory Committee or Research and Promotion Background Information. The form AD-755 may be obtained from the Forest Service contacts or from the following Web site: http://www.usda.gov/documents/OCIO_AD_755_Master_2012.pdf.

5. Letters of recommendation are welcome.

All nominations will be vetted by USDA. A list of qualified applicants will be prepared from which the Secretary of Agriculture shall appoint to the Forest Resource Coordinating Committee. Applicants are strongly encouraged to submit nominations via overnight mail or delivery to ensure timely receipt by the USDA. Members of the Committee will serve without compensation, but may be reimbursed for travel expenses while performing duties on behalf of the Committee, subject to approval by the DFO.

Equal opportunity practices, in line with USDA policies, will be followed in all appointments to the Committee. To ensure that the recommendations of the Committee have been taken into account the needs of the diverse groups served by the Departments, membership will, to the extent practicable, include individuals with demonstrated ability to represent all racial and ethnic groups, women and men, and persons with disabilities.

Dated: April 2, 2014.
Gregory Parham,
Acting Assistant Secretary for Administration.

[FR Doc. 2014-08472 Filed 4-14-14; 8:45 am]

BILLING CODE 3411-15-P